INTERNATIONAL TRADE COMMISSION

[Investigation No. 337-TA-862]

Certain Electronic Devices, Including Wireless Communication Devices, Tablet Computers, Media Players, and Components Thereof; Commission Determinations Not To Review an Initial Determination Extending the Date for Issuance of the Final Initial Determination and Not To Review an Initial Determination Terminating the Investigation Based on a Settlement Agreement; Termination of Investigation

AGENCY: U.S. International Trade Commission.

ACTION: Notice.

SUMMARY: Notice is hereby given that the U.S. International Trade Commission has determined not to review an initial determination (Order No. 69) issued by the presiding administrative law judge (“ALJ”) on January 23, 2014, extending the time for issuance of the final initial determination. Notice is also hereby given that the Commission has determined not to review an initial determination (Order No. 70) issued by the ALJ on January 29, 2014, terminating the investigation based on a settlement agreement.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 8, 2013, based on a complaint filed by Ericsson Inc., of Plano, Texas, and Telefonaktiebolaget LM Ericsson of Sweden. 78 FR 1247 (January 8, 2013). The complaint, as amended, alleged violations of section 337 of the Tariff Act of 1930 as amended (19 U.S.C. 1337), in the importation into the United States, the sale for importation, and the sale within the United States after importation of certain electronic devices, including wireless communication devices, tablet computers, media players, and televisions, and components thereof, by reason of infringement of certain claims of eleven U.S. patents. The notice of investigation named as respondents Samsung Electronics America, Inc., of Ridgefield Park, New Jersey; Samsung Telecommunications America LLC, of Richardson, Texas; and Samsung Electronics Co., Ltd., of the Republic of Korea. Id. The Office of Unfair Import Investigations was also named a party. Id.

On January 22, 2014, all complainants and respondents (“the private parties”) jointly moved to extend the date for issuance of the final initial determination from January 24, 2014, to January 31, 2014. The motion stated that the private parties had reached a settlement agreement, and that the extension would permit the parties time to file termination papers. The motion further stated the Investigative Attorney (“IA”) did not oppose the motion. On January 23, 2014, the ALJ found that good cause existed for the extension, and granted the motion in an initial determination (“Order No. 69”). No party filed a petition for review of Order No. 69.

On January 27, 2014, the private parties moved to terminate the investigation based on a settlement agreement. The parties stated that there were no other agreements, written or oral, express or implied, between the private parties concerning the subject matter of this investigation. The IA filed a response supporting the motion. On January 29, 2014, the ALJ issued an initial determination (“Order No. 70”) granting the motion and terminating the investigation. The ALJ found that the motion complied with the Commission rules and that the settlement is in the public interest. No party filed a petition for review of Order No. 70.

The Commission has determined not to review Order No. 69 and Order No. 70.

The authority for the Commission's determination is contained in section 337 of the Tariff Act of 1930, as amended (19 U.S.C. 1337), and in Part 210 of the Commission's Rules of Practice and Procedure (19 CFR Part 210).

Dated: February 12, 2014.
By order of the Commission.
Lisa R. Barton,
Acting Secretary to the Commission.

[FR Doc. 2014-03438 Filed 2-14-14; 8:45 am]

BILLING CODE 7020-02-P